INTERNATIONAL TRADE COMMISSION

[Investigation No. 337-TA-1126]

Certain Water Filters and Components Thereof Institution of Investigation

AGENCY: U.S. International Trade Commission

ACTION: Notice

SUMMARY: Notice is hereby given that a complaint was filed with the U.S. International Trade Commission on June 8, 2018, under section 337 of the Tariff Act of 1930, as amended, on behalf of Electrolux Home Products, Inc. of Charlotte, North Carolina and KX Technologies, LLC of West Haven, Connecticut. An amended complaint was filed on June 28, 2018. A letter supplementing the amended complaint was filed on July 10, 2018. The amended complaint, as supplemented, alleges violations of section 337 based upon the importation into the United States, the sale for importation, and the sale within the United States after importation of certain water filters and components thereof by reason of infringement of U.S. Patent No. 8,673,146 (“the '146 patent”); U.S. Patent No. 8,137,551 (“the '551 patent”); U.S. Patent No. 9,233,322 (“the '322 patent”); and U.S. Patent No. 9,901,852 (“the '852 patent”). The amended complaint further alleges that an industry in the United States exists as required by the applicable Federal Statute.

The complainants request that the Commission institute an investigation and, after the investigation, issue a general exclusion order or, in the alternative, a limited exclusion order, and cease and desist orders.

ADDRESSES: The amended complaint, except for any confidential information contained therein, is available for inspection during official business hours (8:45 a.m. to 5:15 p.m.) in the Office of the Secretary, U.S. International Trade Commission, 500 E Street SW, Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov. The public record for this investigation may be viewed on the Commission's electronic docket (EDIS) at https://edis.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2018).

Scope of investigation: Having considered the amended complaint, the U.S. International Trade Commission, on July 26, 2018, ordered that—

(1) Pursuant to subsection (b) of section 337 of the Tariff Act of 1930, as amended, an investigation be instituted to determine whether there is a violation of subsection (a)(1)(B) of section 337 in the importation into the United States, the sale for importation, or the sale within the United States after importation of products identified in paragraph (2) by reason of infringement of one or more of claims 1-3, 6, 7, and 15 of the '146 patent; claim 49 of the '551 patent; claims 1-3, 7-9, and 12-15 of the '322 patent; and claims 1, 4-6, 9-11, 14-18, and 21-31 of the '852 patent; and whether an industry in the United States exists as required by subsection (a)(2) of section 337;

(2) Pursuant to section 210.10(b)(1) of the Commission's Rules of Practice and Procedure, 19 CFR 210.10(b)(1), the plain language description of the accused products or category of accused products, which defines the scope of the investigation, is “water filter cartridges for refrigerators, including water filter cartridge assemblies and interconnection subassemblies”;

(3) For the purpose of the investigation so instituted, the following are hereby named as parties upon which this notice of investigation shall be served:

(a) The complainants are:

Electrolux Home Products, Inc., 10200 David Taylor Drive, Charlotte, NC 28262

KX Technologies, LLC, 55 Railroad Avenue, West Haven, CT 06516

(b) The respondents are the following entities alleged to be in violation of section 337, and are the parties upon which the amended complaint is to be served:

Shenzen Calux Purification Technology Co., Limited, No. 7-3, The Second Industrial Zone, Fudigang Pingdong Community, Pingdi Street, Longgang District, Shenzen, Guangdong, China 518100

Ningbo Pureza Limited, No. l Floor, Shanshan Industrial Park, Jishigang, Yinzhou, Ningbo, China 315100

JiangSu Angkua Environmental Technical Co., Ltd., Chai Wan Industrial Park, RuGao, China 226500

Ecopure Filter Co., Ltd., 266 Yanquing Arterial Highway, Jimo, Qindao, China 266000

Shenzhen Dakon Purification Tech Co., Ltd., 101, No. 7-3, Fudigang Second Industrial Area, Pingdong Community, Pingdi Sreet, Longgng Dist., Shenzhen, Guangdong, China 518100

HongKong Ecoaqua Co., Limited, Hong Kong Rm 2105 JQD2732 Trend Centre, 29-31 Cheng Lee St., Wan Chai, Hong Kong, CHINA, Area Code 852

Ecolife Technologies, Inc., 17910 Ajax Circle, City of Industry, CA 91748

Crystala Filters LLC, 555 Preakness Avenue, Suite 301, Patterson, NJ 07502

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the amended complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the amended complaint and the notice of investigation. Extensions of time for submitting responses to the amended complaint and the notice of investigation will not be granted unless good cause therefor is shown.

Failure of a respondent to file a timely response to each allegation in the amended complaint and in this notice may be deemed to constitute a waiver of the right to appear and contest the allegations of the amended complaint and this notice, and to authorize the administrative law judge and the Commission, without further notice to the respondent, to find the facts to be as alleged in the amended complaint and this notice and to enter an initial determination and a final determination containing such findings, and may result in the issuance of an exclusion order or a cease and desist order or both directed against the respondent.

By order of the Commission.
Issued: July 27, 2018.
Lisa Barton,
Secretary to the Commission.

[FR Doc. 2018-16434 Filed 7-31-18; 8:45 am]

BILLING CODE P